DEPARTMENT OF DEFENSE

Office of the Department of the Air Force

U.S. Air Force Scientific Advisory Board; Notice of Federal Advisory Committee Meeting

AGENCY: Department of the Air Force, U.S. Air Force Scientific Advisory Board, Department of Defense.

ACTION: Notice of Federal Advisory Committee meeting.

SUMMARY: The Department of Defense (DoD) is publishing this notice to announce the Federal Advisory Committee meeting of the U.S. Air Force Scientific Advisory Board.

DATES: Closed to the Public Thursday 12 April 2018, 1:30 p.m.-5:00 p.m. Mountain Time (MT).

ADDRESSES: The Air Force Operational Test and Evaluation Center, located at 1251 Wyoming Blvd. SE, Kirtland Air Force Base, New Mexico 87123.

FOR FURTHER INFORMATION CONTACT: Evan Buschmann, (240) 612-5503 (Voice), 703-693-5643 (Facsimile), evan.g.buschmann.civ@us.af.mil (Email). Mailing address is 1500 West Perimeter Road, Ste. #3300, Joint Base Andrews, MD 20762. Website: http://www.sab.af.mil/. The most up-to-date changes to the meeting agenda can be found on the website.

SUPPLEMENTARY INFORMATION: This meeting is being held under the provisions of the Federal Advisory Committee Act (FACA) of 1972 (5 U.S.C., Appendix, as amended), the Government in the Sunshine Act of 1976 (5 U.S.C. 552b, as amended), and 41 CFR 102-3.140 and 102-3.150. The scheduled sessions of the Air Force SAB Spring Board meeting will be closed to the public because they will discuss classified information and matters covered by Section 552b of Title 5, United States Code, subsection (c), subparagraph (1).

Purpose of the Meeting: The purpose of this Air Force Scientific Advisory Board quarterly meeting is to conduct mid-term reviews of the Scientific Advisory Board's FY18 studies, offering board members the opportunity to hear directly from the Study Chairs on the progress they have made thus far and provide dedicated time to continue collaboration on research.

Agenda:

U.S. Air Force Scientific Advisory Board Spring Board Meeting

1330-1400 Welcome Remarks, Dr. James S. Chow, Chair, U.S. Air Force Scientific Advisory Board

1400-1530 Technologies for Enabling Resilient Command and Control (TRC), Dr. Nils Sandell, Study Chair

1530-1655 Maintaining Technology Superiority for the USAF (MTS), Lt Gen George Muellner, (Ret.), Study Chair

1655-1700 Closing Remarks, Dr. James S. Chow, Chair, U.S. Air Force Scientific Advisory Board

1700 Adjourn

Meeting Accessibility: Closed to the public.

Written Statements: Any member of the public that wishes to provide input on the Air Force Scientific Advisory Board Spring Meeting must contact the meeting organizer at the phone number or email address listed in this announcement at least five working days prior to the meeting date. Please ensure that you submit your written statement in accordance with 41 CFR 102-3.140(c) and section 10(a)(3) of the Federal Advisory Committee Act. Statements being submitted in response to the agenda mentioned in this notice must be received by the Scientific Advisory Board meeting organizer at least five calendar days prior to the meeting commencement date. The Scientific Advisory Board meeting organizer will review all timely submissions and respond to them prior to the start of the meeting identified in this notice. Written statements received after this date may not be considered by the Scientific Advisory Board until the next scheduled meeting. For Further Information Contact: The Scientific Advisory Board meeting organizer, Lt Col Mike Rigoni at michael.j.rigoni.mil@mail.mil or 703-695-4297, United States Air Force Scientific Advisory Board, 1500 West Perimeter Road, Ste. #3300, Joint Base Andrews, MD 20762.

Henry Williams,
Acting Air Force Federal Register Liaison Officer.

[FR Doc. 2018-06331 Filed 3-28-18; 8:45 am]

BILLING CODE 5001-10-P